DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period
[January 21, 2007 through February 20, 2007]
Firm | Address | Date petition accepted | Product
Prosco, Inc. DBA Ideal Products | 227 East Main Street, Sykesville, PA 15865 | 1/23/2007 | Hunting and fishing apparel.
Industrial Molded Rubber Products Inc. DBA Northern Prairie Polymers, LLC | 20015 176th St., Big Lake, MN 55309 | 1/23/2007 | Custom molded products such as seals, coatings, belts, gaskets, packings and hoses.
Tommila Brothers, Inc | 497 Route 12N P.O. Box 188, Troy, NH 03465 | 1/24/2007 | High quality lumber for flooring, molding, and architectural millwork for a variety of industries.
St. Marys Carbon Company | 259 Eberl Street, St. Marys, PA 15857 | 1/24/2007 | Carbon and metal powder products.
Automated Production Assemblies, Inc | 33957 Doreka, Fraser, MI 48026 | 1/29/2007 | Metal automotive components.
Spring Health Products, Inc | 705 General Washington Ave. Ste 701, Norristown, PA 19403 | 1/31/2007 | Dental equipment.
Broncorp Manufacturing, Inc | 5957 Broadway, Denver, CO 80216 | 1/31/2007 | Packing containers and cutlery.
Econocorp, Inc | 72 Pacella Park Drive, Randolph, MA 02368 | 1/30/2007 | Packaging machinery.
Alston Tascomb, Inc | 13512 Vintage Pl., Chino, CA 91710 | 1/31/2007 | Contract center solutions and telephone answering systems.
Disposable Instrument Company, Inc | 14248 Santa Fe Trail Dr., Shawnee Mission, KS 66215-1238 | 1/30/2007 | Standard wound drainage trocars and OEM trocars.
Narrow Fabric Industries Corporation | 701 Reading Ave., Reading, PA 19611 | 2/16/2007 | Narrow elastic and lace products.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: February 20, 2007.
William P. Kittredge,
Program Officer for TAA.

[FR Doc. E7-3174 Filed 2-23-07; 8:45 am]

BILLING CODE 3510-24-P